DEPARTMENT OF ENERGY

Federal Energy Regulatory Commission

[Docket No. RP01-55-002]

WestGas InterState, Inc.; Notice of Compliance Filing

January 30, 2001.

Take notice that on January 24, 2001, WestGas InterState, Inc. (WGI) tendered for filing to its FERC Gas Tariff, First Revised Volume No. 1, Substitute Original Sheet No. 47B, with an effective date of November 1, 2000.

WGI states that the purpose of the filing is to permit point operators to net and trade imbalances, in compliance with the letter order issued by the Director, Division of Tariffs and Rates—West in the above-captioned proceeding on January 9, 2001.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Rooom. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2927 Filed 2-2-01; 8:45 am]

BILLING CODE 6717-01-M